SMALL BUSINESS ADMINISTRATION

[Disaster Declaration #18016 and #18017; VERMONT Disaster Number VT-00046]

Presidential Declaration of a Major Disaster for the State of Vermont

AGENCY: Small Business Administration.

ACTION: Amendment 2.

SUMMARY: This is an amendment of the Presidential declaration of a major disaster for the State of Vermont (FEMA-4720-DR), dated 07/21/2023.

Incident: Severe Storms, Flooding, Landslides, and Mudslides.

Incident Period: 07/07/2023 and continuing.

DATES: Issued on 07/21/2023.

Physical Loan Application Deadline Date: 09/12/2023.

Economic Injury (EIDL) Loan Application Deadline Date: 04/15/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for the State of Vermont, dated 07/14/2023, is hereby amended to expand the disaster incident to include landslides and mudslides.

All other information in the original declaration remains unchanged.

(Catalog of Federal Domestic Assistance Number 59008)

Francisco Sánchez, Jr.,
Associate Administrator, Office of Disaster Recovery & Resilience.

[FR Doc. 2023-15926 Filed 7-26-23; 8:45 am]

BILLING CODE 8026-09-P